DEPARTMENT OF HOUSING AND URBAN DEVELOPMENT

24 CFR Part 1000

[Docket No. FR-5275-C-07]

Native American Housing Assistance and Self-Determination Reauthorization Act of 2008: Negotiated Rulemaking Committee Meeting; Correction

AGENCY: Office of the Assistant Secretary for Public and Indian Housing, HUD.

ACTION: Notice of Negotiated Rulemaking Committee Meeting; correction.

SUMMARY: HUD published a document in the Federal Register on March 19, 2010, announcing a meeting of the Native American Housing Assistance & Self-Determination Negotiated Rulemaking Committee. The document contained an incorrect telephone number for the location where the meeting is to take place. The location, address, and dates of the meeting remain as previously published.

FOR FURTHER INFORMATION CONTACT: Rodger J. Boyd, Deputy Assistant Secretary for Native American Programs, Office of Public and Indian Housing, Department of Housing and Urban Development, 451 Seventh Street, SW., Room 4126, Washington, DC 20410; telephone number 202-401-7914 (this is not a toll-free number). Hearing or speech-impaired individuals may access this number via TTY by calling the toll-free Federal Information Relay Service at 1-800-877-8339.

Correction

In the Federal Register of March 19, 2010, on page 13243, in the second column, correct the ADDRESSES caption to read:

ADDRESSES: The meeting will take place at the Doubletree Paradise Valley Resort, 5401 North Scottsdale Road, Scottsdale, Arizona 85250; telephone number 480-947-5400 (this is not a toll-free number).

Dated: March 19, 2010.
Aaron Santa Anna,
Assistant General Counsel for Legislation and Regulation.

[FR Doc. 2010-6609 Filed 3-24-10; 8:45 am]

BILLING CODE 4210-67-P